DEPARTMENT OF THE INTERIOR

Bureau of Land Management

[LLCAN01000.L18200000.XZ0000]

Notice of Public Meeting: Northwest California Resource Advisory Council

AGENCY: Bureau of Land Management, Interior.

ACTION: Notice of Public Meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, Oct. 24 and 25, 2013, at the Bureau of Land Management Ukiah Field Office, 2550 North State St., Ukiah, California. On Oct. 24, the council will convene at 10 a.m. and depart immediately for a field tour of public lands. Members of the public are welcome. They must provide their own transportation, food and beverages. On Oct. 25, the council will convene at 8 a.m. in the Ukiah Field Office Conference Room. The meeting is open to the public. Public comments will be taken at 11 a.m.

FOR FURTHER INFORMATION CONTACT: Nancy Haug, BLM Northern California District manager, (530) 224-2160; or Joseph J. Fontana, public affairs officer, (530) 252-5332.

SUPPLEMENTARY INFORMATION: The 12-member council advises the Secretary of the Interior, through the BLM, on a variety of planning and management issues associated with public land management in Northwest California. At this meeting the RAC will discuss land use planning work underway in the BLM Arcata, Redding and Ukiah Field Offices, and receive reports on major public land initiatives. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Dated: September 5, 2013.
Joseph J. Fontana,
Public Affairs Officer.

[FR Doc. 2013-22288 Filed 9-12-13; 8:45 am]

BILLING CODE 4310-40-P